DEPARTMENT OF ENERGY

Federal Energy Regulatory Commission

[Docket No. AD14-8-000]

Winter 2013-2014 Operations and Market Performance in Regional Transmission Organizations and Independent System Operators; Supplemental Notice of Technical Conference

As announced in the Notice issued on February 21, 2014, and the Supplemental Notice issued on March 19, 2014 (March 19 Notice), the Federal Energy Regulatory Commission (Commission) will hold a Commissioner-led technical conference on Tuesday, April 1, 2014, from 9:00 a.m. to approximately 5:15 p.m. to discuss the impacts of recent cold weather events on the Regional Transmission Organizations/Independent System Operators (RTOs/ISOs), and discuss actions taken to respond during those occurrences. The conference will be held at the Federal Energy Regulatory Commission, 888 First Street NE., Washington, DC 20426. This conference is free of charge and open to the public. Commission members will participate in the conference. Following the conference, the Commission will take written public comments until May 15, 2014.

While this conference is not for the purpose of discussing specific cases, the March 19 Notice noted that discussions at the technical conference may address matters at issue in a number of Commission proceedings that are either pending or within their rehearing period and included a list of those proceedings. The following additional Commission proceedings may also involve issues that could be addressed at the technical conference: Posting of Offers to Purchase Capacity, Docket No. RP14-442; California Independent System Operator Corporation, Docket No. EL14-22; ISO New England Inc., Docket No. EL14-23; PJM Interconnection, LLC, Docket No. EL14-24; Midcontinent Independent System Operator, Inc., Docket No. EL14-25; New York Independent System Operator, Inc., Docket No. EL14-26; Southwest Power Pool, Inc., Docket No. EL14-27; ISO New England Inc., Docket No. ER13-2266; and ISO New England Inc. and New England Power Pool, Docket Nos. ER13-1877 and ER14-1050.

Commission conferences are accessible under section 508 of the Rehabilitation Act of 1973. For accessibility accommodations please send an email to accessibility@ferc.gov or call toll free (866) 208-3372 (voice) or (202) 502-8659 (TTY), or send a fax to (202) 208-2106 with the requested accommodations.

For more information about the technical conference, please contact:

Jordan Kwok (Technical Information), Office of Energy Policy and Innovation, Federal Energy Regulatory Commission, 888 First Street NE., Washington, DC 20426, (202) 502-6161, Jordan.Kwok@ferc.gov.

Sarah McKinley (Logistical Information), Office of External Affairs, Federal Energy Regulatory Commission, 888 First Street NE., Washington, DC 20426, (202) 502-8368, Sarah.McKinley@ferc.gov.

Dated: March 31, 2014.
Kimberly D. Bose,
Secretary.

[FR Doc. 2014-07532 Filed 4-3-14; 8:45 am]

BILLING CODE 6717-01-P